DEPARTMENT OF JUSTICE

Antitrust Division

Notice Pursuant to the National Cooperative Research and Production Act of 1993—MLCommons Association

Notice is hereby given that, on May 16, 2025, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances.

Specifically, DataCrunch, Helsinki, REPUBLIC OF FINLAND; Nebius BV, Amsterdam, KINGDOM OF THE NETHERLANDS; Scitix (SGP) Tech. PTE Ltd., Singapore, REPUBLIC OF SINGAPORE; Persimmons, Inc, Milpitas, CA; The Constant Company, LLC, West Palm Beach, FL; MiTAC Computing Technology Corporation, Hsinchu, REPUBLIC OF CHINA (TAIWAN), Chiara Bonfanti (individual member), Torino, ITALIAN REPUBLIC; Bhavesh Davda (individual member), Fremont, CA; Yongsang Park (individual member), Cupertino, CA; Jared Willard (individual member), Minneapolis, MN; and Naeem Khoshnevis (individual member), Cambridge, MA have been added as parties to this venture.

Also, Guangdong OPPO Mobile Telecommunications Corp., Ltd., DongGuan City, PEOPLE'S REPUBLIC OF CHINA; Neuchips Corporation, Hsinchu, REPUBLIC OF CHINA (TAIWAN); VerifAI Inc, Palo Alto, CA; VMind Technologies, Inc., San Francisco, CA; Moreh Inc., Seoul, REPUBLIC OF KOREA; NeuReality LTD., Ceaseria, STATE OF ISRAEL; Neural Magic, Inc., Somerville, MA; PowerML, Inc, Palo Alto, CA; UNTETHER AI, Toronto, CANADA; and Turaco Strategy, LLC, Boulder, CO, have withdrawn as parties to this venture.

No other changes have been made in either the membership or planned activity of the group research project. Membership in this group research project remains open and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on February 26, 2025. A notice was published in the Federal Register pursuant to section 6(b) of the Act on March 18, 2025 (90 FR 12568).

Suzanne Morris,
Deputy Director Civil Enforcement Operations, Antitrust Division.

[FR Doc. 2025-10580 Filed 6-10-25; 8:45 am]

BILLING CODE 4410-11-P